DEPARTMENT OF THE INTERIOR

National Park Service

[NPS-IMR-YELL-20564; PPIMYELL1W, PROIESUC1.380000 (166)]

Proposed Information Collection; Reporting and Recordkeeping for Snowcoaches and Snowmobiles, Yellowstone National Park

AGENCY: National Park Service, Interior.

ACTION: Notice; request for comments.

SUMMARY: We (National Park Service, NPS) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on October 31, 2016. We may not conduct or sponsor and a person is not required to respond to a collection of information unless it displays a currently valid OMB control number.

DATES: To ensure that we are able to consider your comments on this IC, we must receive them by May 16, 2016.

ADDRESSES: Please send your comments on the ICR to Madonna L. Baucum, Information Collection Clearance Officer, National Park Service, 12201 Sunrise Valley Drive, Room 2C114, Mail Stop 242, Reston, VA 20192 (mail); or madonna_baucum@nps.gov (email). Please include “1024-0266” in the subject line of your comments.

FOR FURTHER INFORMATION CONTACT: To request additional information about this IC, contact Christina Mills, Outdoor Recreation Planner, Yellowstone National Park, National Park Service, P.O. Box 168, Yellowstone National Park, WY 82190; (307) 344-2320 (phone); or christina_mills@nps.gov@nps.gov. Please reference “1024-0266” in your communication.

SUPPLEMENTARY INFORMATION:

I. Abstract

The Yellowstone National Park Organic Act (16 U.S.C. 21 and 22), signed March 1, 1872, established Yellowstone National Park to “dedicate and set apart as a public park or pleasuring-ground for the benefit and enjoyment of the people” and “for the preservation, from injury or spoliation, of all timber, mineral deposits, natural curiosities, or wonders within said park, and their retention in their natural condition” The Organic Act of 1916 (16 U.S.C. 1 et seq.) authorizes the Secretary of the Interior to develop regulations for national park units under the Department's jurisdiction.

We (NPS) provide opportunities for people to experience Yellowstone in the winter via oversnow vehicles (snowmobiles and snowcoaches, collectively OSVs). Access to most of the park in the winter is limited by distance and the harsh winter environment, which presents challenges to safety and park operations. The park does not provide wintertime OSV tours directly, but currently authorizes OSV tours through concessions contracts (for snowcoach tours) and commercial use authorizations (for snowmobile tours) with area businesses to provide transportation to visitors (Title IV, Section 403 of the National Parks Omnibus Management Act of 1998, Pub. L. 105-391). The park issued 10-year concession contracts for all OSVs starting in December 2014.

OSV use is a form of off-road vehicle use governed by Executive Order 11644 (Use of Off-road Vehicles on Public Lands, as amended by Executive Order 11989). Implementing regulations are published at 36 CFR 2.18, 36 CFR part 13, and 43 CFR part 36. Routes and areas may be designated for OSV use only by special regulation after it has first been determined through park planning to be an appropriate use that will meet the requirements of 36 CFR 2.18 and not otherwise result in unacceptable impacts.

Information collection requirements in this renewal request include:

(1) Emission and Sound Standards (§ 7.13(l)(4)(vii) and (5)). Only OSVs that meet NPS emission and sound standards may operate in the park. Before the start of each winter season:

(a) Snowcoach manufacturers or commercial tour operators must demonstrate, by means acceptable to the Superintendent, that their snowcoaches meet the standards.

(b) Snowmobile manufacturers must demonstrate, by means acceptable to the Superintendent, that their snowmobiles meet the standards.

(2) Transportation Events (§ 7.13(l)(11)(i)-(iii)). So that we can monitor compliance with the required average and maximum size of transportation events, as of December 15, 2014, each commercial tour operator must:

(a) Maintain accurate and complete records on the number of snowmobiles and snowcoaches he or she brings into the park on a daily basis. These records must be made available for inspection by the park upon request.

(b) Provide a monthly use report on their activities. We will use a form, which will be available on the park Web site, to collect the following information for transportation events:

• Report Month/Year

• Contract Number

• Departure Date

• Duration of Trip (in days)

• Transportation event type (snowmobile or snowcoach)

• Number of snowmobiles or snowcoaches

• Air/noise emissions standard (New BAT or E-BAT)

• Number of visitors and guides

• Route and primary destination

• If the transportation event allocation was from another commercial tour operator

• Administrative or guest services trip

• Transportation event group size (previous month and season to-date)

(3) Enhanced Emission Standards (§ 7.13(l)(11)(iv)). To qualify for the increased average size of snowmobile transportation events or increased maximum size of snowcoach transportation events, each commercial tour operator must:

(a) Before the start of each winter season, demonstrate, by means acceptable to the Superintendent, that his or her snowmobiles or snowcoaches meet the enhanced emission standards; and

(b) Maintain separate records for snowmobiles and snowcoaches that meet enhanced emission standards and those that do not.

We will use the information collected to:

• Ensure that OSVs meet NPS emission standards to operate in the park;

• (2) evaluate commercial tour operators' compliance with allocated transportation events and daily and seasonal OSV group size limits,

• ensure that established daily transportation event limits for the park are not exceeded,

• confirm that commercial tour operators do not run out of authorizations before the end of the season and create a gap when prospective visitors cannot be accommodated, and

• guarantee compliance with applicable laws and regulations.

Responsible commercial tour operators are required to provide this information to minimize liabilities, maintain business records for tax and other purposes, obtain financial backing, and ensure a safe, efficient, and well-planned operation.

II. Data

OMB Control Number: 1024-0266.

Title: Reporting and Recordkeeping for Snowcoaches and Snowmobiles, Yellowstone National Park, 36 CFR 7.13(l).

Service Form Numbers: NPS Forms 10-650.

Type of Request: Extension of a currently approved collection.

Description of Respondents: Individuals desiring to operate snowcoaches and snowmobiles in Yellowstone National Park.

Respondent's Obligation: Required to obtain or retain a benefit.

Frequency of Collection: On occasion.

Activity | Number of respondents | Completion time per response (hours) | Total annual burden hours
Meet Emission/Sound Standards—Snowcoaches (7.13(l)(4)(vi)) | 12 | .5 | 6
Meet Emission/Sound Standards—Snowmobiles (7.13(l)(5)) | 2 | .5 | 1
Report and Recordkeeping (7.13(l)(11)(i)-(iii)) | 45 | 2 | 90
Meet Enhanced Emission Standards (7.13(l)(11)(iv)) | 5 | .5 | 3
Total | 64 |  | 100

Estimated Annual Nonhour Cost Burden: None.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: March 9, 2016.
Madonna L. Baucum,
Information Collection Clearance Officer, National Park Service.

[FR Doc. 2016-05783 Filed 3-14-16; 8:45 am]

BILLING CODE 4310-EH-P